DEPARTMENT OF HEALTH AND HUMAN SERVICES

Centers for Disease Control and Prevention

[60Day-10-10FB]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, Ph.D., CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Developing a Sexual consent Norms Instrument—New—National Center for Injury Prevention and Control (NCIPC), Centers for Disease Control and Prevention (CDC).

Background and Brief Description

Sexual violence prevention strategies are increasingly focusing on promoting positive behavioral norms such as safety, equality and respect in relationships, however psychometrically validated measures do not exist for programs to use in evaluating their strategies. This project provides an opportunity to significantly contribute to the literature base and fill a gap in evaluation tools by developing a measure specific to consent norms for use in three populations: college students, late adolescents (ages 15-18) and early adolescents (ages 11-14). Sound measures of sexual consent norms will improve program evaluation efforts and potentially contribute to understanding of effective prevention strategies as well as the etiology of sexual violence perpetration.

The development of these measures will occur in four phases. Phase one will consist of multiple two-hour focus groups of 8-10 participants: 1 with prevention educators, 8 with college students, 8 with late adolescents (ages 15-18) and 8 with early adolescents (ages 11-14). Samples of college students and adolescents will include Asian, Black and African American, Hispanic or Latino, and White students. Half of the college student focus groups will be conducted with students who grew up in the United States; the other half will be conducted with students who came to the United States within the last five years. Focus group participants will be asked to comment on the proposed instruments relevant to their group. Prevention educators will comment on all three instruments. Comments will be used to refine the measures.

In phase two, 200 Asian, Black and African American, Hispanic or Latino, and White college students and 100 Asian, Black and African American, Hispanic or Latino, and White adolescents will complete the revised instrument appropriate to age group, plus a set of existing instruments that assess related variables, using online data collection methods.

Phase three will consist of multiple two-hour focus groups of 8-10 participants: 2 with prevention educators, 1 with college students, 1 with late adolescents (ages 15-18) and 1 with early adolescents (ages 11-14). Samples of college students and adolescents will include Asian, Black and African American, Hispanic or Latino, and White students as well as students who grew up in the United States and students who came to the United States in the last five years. All focus group participants will be asked to comment on data collected with the revised instruments in their age group. Prevention educators will be asked to comment on data from all age groups. Comments will be used to refine the instrument again, before administering it to larger samples.

In phase four, the refined instruments plus a set of existing instruments that assess related variables will be administered to 500 Asian, Black and African American, Hispanic or Latino, and White college students and 400 Asian, Black and African American, Hispanic or Latino, and White adolescents (200 early adolescents and 200 late adolescents). Data collection will occur via an online survey. These data will be used to examine the psychometric properties of the new instruments.

Findings will be used to demonstrate the adequacy of new instruments for use in racially and ethnically diverse populations of college student and adolescents by sexual assault prevention programs funded through the Rape Prevention and Education Program. There is no cost to respondents other than their time.

Estimated Annualized Burden Hours
Respondents/form name | Number of respondents | Number of responses per respondent | Average burden per response (hours) | Total burden (in hrs)
Phase I: Focus Group of Prevention Educators | 10 | 1 | 3 | 30
Phase I: Focus Group of College Students | 10 | 1 | 2.5 | 25
Phase I: Focus Group of Late Adolescents | 10 | 1 | 3 | 30
Phase I: Focus Group of Early Adolescents | 10 | 1 | 3 | 30
Phase II: College Student Survey | 200 | 1 | 2 | 400
Phase II: Late Adolescent Survey | 50 | 1 | 2 | 100
Phase II: Early Adolescent Survey | 50 | 1 | 1 | 50
Phase III: Follow-up Focus Group of Prevention Educators | 20 | 1 | 3 | 60
Phase III: Follow-up Focus Group of College Students | 10 | 1 | 2.5 | 25
Phase III: Follow-up Focus Group of Late Adolescents | 10 | 1 | 3 | 30
Phase III: Follow-up Focus Group of Early Adolescents | 10 | 1 | 3 | 30
Phase IV: Confirmatory Survey of College Students | 500 | 1 | 2 | 1000
Phase IV: Confirmatory Survey of Late Adolescents | 200 | 1 | 2 | 400
Phase IV: Confirmatory Survey of Early Adolescents | 200 | 1 | 1 | 200
Total |  |  |  | 2410

Dated: June 23, 2010.
Carol Walker,
Acting Reports Clearance Officer, Centers for Disease Control and Prevention.

[FR Doc. 2010-15780 Filed 6-28-10; 8:45 am]

BILLING CODE 4163-18-P